DEPARTMENT OF ENERGY

Federal Energy Regulatory Commission

[Docket No. EG00-73-000, et al.]

Duke Energy Hidalgo, L.P., et al.; Electric Rate and Corporate Regulation Filings

February 28, 2000.

Take notice that the following filings have been made with the Commission:

1. Duke Energy Hidalgo, L.P.

[Docket No. EG00-73-000]

Take notice that on February 25, 2000, Duke Energy Hidalgo, L.P. filed an amendment to their December 30, 1999 application for Commission determination of exempt wholesale generator status.

Comment date: March 10, 2000, in accordance with Standard Paragraph E at the end of this notice. The Commission will limit its consideration of comments to those that concern the adequacy or accuracy of the application.

2. Louisville Gas and Electric Company/Kentucky Utilities Company

[Docket Nos. ER99-1050-000, ER00-1068-000, ER00-1069-000, ER00-1070-000, ER00-1071-000, ER00-1072-000, ER00-1073-000, and ER00-1074-000]

Take notice that on February 23, 2000, Louisville Gas and Electric Company (LG&E)/Kentucky Utilities (KU) (hereinafter Companies) tendered for filing a letter clarifying the charges in paragraph 8.4 of several Firm Point-to-Point Transmission Service Agreements filed on January 5, 2000.

Comment date: March 15, 2000, in accordance with Standard Paragraph E at the end of this notice.

3. Atlantic City Electric Company

[Docket No. ER99-1618-002]

Take notice that on February 24, 2000, Atlantic City Electric Company (Atlantic or the Company) filed its refund report in compliance with the Commission's order dated January 31, 2000 in the above-captioned docket.

Atlantic has served this filing on its affected wholesale customer, Vineland Municipal Electric Utility (Vineland), and the New Jersey Board of Public Utilities.

Comment date: March 16, 2000, in accordance with Standard Paragraph E at the end of this notice.

4. Allegheny Energy Service Corporation, on behalf of Allegheny Energy Supply Company LLC

[Docket No. ER00-1493-000]

Take notice that on February 23, 2000, Allegheny Energy Service Corporation on behalf of Allegheny Energy Supply Company, LLC (Allegheny Energy Supply Company) filed Amendment No. 1 to Supplement No. 23 to complete the filing requirement for one (1) new Customer of the Market Rate Tariff under which Allegheny Energy Supply offers generation services.

Allegheny Energy requests a waiver of notice requirements to make service available as of January 7, 2000, to Aquila Energy Marketing Corporation

Copies of the filing have been provided to the Public Utilities Commission of Ohio, the Pennsylvania Public Utility Commission, the Maryland Public Service Commission, the Virginia State Corporation Commission, the West Virginia Public Service Commission, and all parties of record.

Comment date: March 15, 2000, in accordance with Standard Paragraph E at the end of this notice.

5. Allegheny Energy Service Corporation, on behalf of Allegheny Energy Supply Company, LLC

[Docket No. ER00-1677-000]

Take notice that on February 23, 2000, Allegheny Energy Service Corporation on behalf of Allegheny Energy Supply Company, LLC (Allegheny Energy Supply Company) filed Amendment No. 1 to Supplement No. 8 to complete the filing requirement for one (1) new Customer of the Market Rate Tariff under which Allegheny Energy Supply offers generation services.

Allegheny Energy requests a waiver of notice requirements to make service available as of November 22, 1999, to Statoil Energy Services, Inc.

Copies of the filing have been provided to the Public Utilities Commission of Ohio, the Pennsylvania Public Utility Commission, the Maryland Public Service Commission, the Virginia State Corporation Commission, the West Virginia Public Service Commission, and all parties of record.

Comment date: March 15, 2000, in accordance with Standard Paragraph E at the end of this notice.

6. Entergy Services, Inc.

[Docket No. ER00-1678-000]

Take notice that on February 24, 2000, Entergy Services, Inc., on behalf of Entergy Arkansas, Inc., Entergy Gulf States, Inc., Entergy Louisiana, Inc., Entergy Mississippi, Inc., and Entergy New Orleans, Inc., (collectively, the Entergy Operating Companies) tendered for filing a Short-Term Firm Point-to-Point Transmission Service Agreement between Entergy Services, Inc., as agent for the Entergy Operating Companies, and Sempra Energy Trading Corp.

Entergy requests that the Transmission Service Agreement be made effective February 15, 2000.

Comment date: March 16, 2000, in accordance with Standard Paragraph E at the end of this notice.

7. Entergy Services, Inc.

[Docket No. ER00-1679-000]

Take notice that on February 24, 2000, Entergy Services, Inc., on behalf of Entergy Arkansas, Inc., Entergy Gulf States, Inc., Entergy Louisiana, Inc., Entergy Mississippi, Inc., and Entergy New Orleans, Inc., (collectively, the Entergy Operating Companies) tendered for filing a Non-Firm Point-to-Point Transmission Service Agreement and a Short-Term Firm Point-to-Point Transmission Service Agreement, both between Entergy Services, Inc., as agent for the Entergy Operating Companies, and Allegheny Energy Supply Company, LLC.

Entergy Services requests that the Transmission Service Agreements be made effective February 15, 2000.

Comment date: March 16, 2000, in accordance with Standard Paragraph E at the end of this notice.

8. Bay State GPE, Inc. and Canadian Niagara Power Company, Limited

[Docket Nos. ER00-1680-000 and ER00-1684-000]

Take notice that on February 23, 2000, the above-mentioned affiliated power producers and/or public utilities filed quarterly reports.

Comment date: March 20, 2000, in accordance with Standard Paragraph E at the end of this notice.

9. Allegheny Energy Service Corporation on behalf of Allegheny Energy Supply Company, LLC

[Docket No. ER00-1681-000]

Take notice that on February 23, 2000, Allegheny Energy Service Corporation on behalf of Allegheny Energy Supply Company, LLC (Allegheny Energy Supply) filed Supplement No. 25 to add one (1) new Customer to the Market Rate Tariff under which Allegheny Energy Supply offers generation services.

Allegheny Energy Supply requests a waiver of notice requirements to make service available as of January 26, 2000 to Tennessee Valley Authority.

Copies of the filing have been provided to the Public Utilities Commission of Ohio, the Pennsylvania Public Utility Commission, the Maryland Public Service Commission, the Virginia State Corporation Commission, the West Virginia Public Service Commission, and all parties of record.

Comment date: March 15, 2000, in accordance with Standard Paragraph E at the end of this notice.

10. Allegheny Energy Service Corporation, on behalf of Monongahela Power Company, The Potomac Edison Company, and West Penn Power Company (Allegheny Power)

[Docket No. ER00-1682-000]

Take notice that on February 23, 2000, Allegheny Energy Service Corporation on behalf of Monongahela Power Company, The Potomac Edison Company and West Penn Power Company (Allegheny Power), filed an Amendment to their Standard Transmission Service Rate Schedule in order to incorporate therein the penalty provision contained in their Open Access Transmission Tariff.

Allegheny Power has requested an effective date for the Amendment of February 24, 2000 or a date determined by the Commission.

Copies of the filing have been provided to the public utility's jurisdictional customers, the Public Utilities Commission of Ohio, the Pennsylvania Public Utility Commission, the Maryland Public Service Commission, the Virginia State Corporation Commission, the West Virginia Public Service Commission, and all parties of record.

Comment date: March 15, 2000, in accordance with Standard Paragraph E at the end of this notice.

11. PSI Energy, Inc.

[Docket No. ER00-1683-000]

Take notice that on February 24, 2000, PSI Energy, Inc. (PSI) tendered for filing the Transmission and Local Facilities (T&LF) Agreement Calendar Year 1997 Reconciliation between PSI and Wabash Valley Power Association, Inc. (WVPA), and between PSI and Indiana Municipal Power Agency (MPA). The T&LF Agreement has been designated as PSI's Rate Schedule FERC No. 253.

Copies of the filing were served on Wabash Valley Power Association, Inc., the Indiana Municipal Power Agency and the Indiana Utility Regulatory Commission.

Comment date: March 16, 2000, in accordance with Standard Paragraph E at the end of this notice.

12. Deseret Generation & Transmission Co-operative

[Docket No. ER00-1688-000]

Take notice that on February 23, 2000, Deseret Generation & Transmission Co-operative, Inc. (Deseret) tendered for filing an executed umbrella short-term firm point-to-point service agreement with the Western Area Power Administration—Colorado River Storage Project Management Center (WAPA) under its open access transmission tariff.

Deseret requests a waiver of the Commission's notice requirements for an effective date of January 24, 2000.

WAPA has been provided a copy of this filing.

Comment date: March 15, 2000, in accordance with Standard Paragraph E at the end of this notice.

13. RS Cogen, L.L.C.

[Docket No. QF00-32-000]

Take notice that on February 23, 2000, RS Cogen, L.L.C. (RS Cogen) located at 1300 PPG Drive, Westlake, Louisiana 70669, filed an application pursuant to Section 292.207(b) of the Commission's regulations for a determination by the Commission that RS Cogen's cogeneration facility is a qualifying facility under the Public Utility Regulatory Policies Act of 1978 and the Commission's regulations thereunder.

RS Cogen proposes to construct, own and operate an approximately 425 MW combined-cycle cogeneration facility fueled by natural gas that will produce electricity and provide steam to nearby chemical manufacturing facilities. The facility proposes to interconnect with Entergy Gulf States, Inc. PPG Industries, Inc. and Entergy R.S. Corporation each own 50 percent of the equity of RS Cogen.

The Applicant anticipates the facility will commence commercial operations in the summer of 2002.

Comment date: March 24, 2000, in accordance with Standard Paragraph E at the end of this notice.

Standard Paragraphs

E. Any person desiring to be heard or to protest such filing should file a motion to intervene or protest with the Federal Energy Regulatory Commission, 888 First Street, N.E., Washington, D.C. 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/online/rims.htm (call 202-208-2222 for assistance).

David P. Boergers,
Secretary.

[FR Doc. 00-5344 Filed 3-3-00; 8:45 am]

BILLING CODE 6717-01-P